DEPARTMENT OF HEALTH AND HUMAN SERVICES

Office of the Secretary

Findings of Research Misconduct

AGENCY: Office of the Secretary, HHS.

ACTION: Notice.

SUMMARY: Findings of research misconduct have been made against Yibin Lin, Ph.D. (Respondent), former postdoctoral fellow, McGovern Medical School, University of Texas Health Science Center (UTHealth). Respondent engaged in research misconduct in research supported by U.S. Public Health Service (PHS) funds, specifically National Institute of Allergy and Infectious Diseases (NIAID), National Institutes of Health (NIH), grant R01 AI125216. The administrative actions, including debarment for a period of ten (10) years, were implemented beginning on January 7, 2021, and are detailed below.

FOR FURTHER INFORMATION CONTACT: Wanda K. Jones, Dr. P.H., Acting Director, Office of Research Integrity, 1101 Wootton Parkway, Suite 240, Rockville, MD 20852, (240) 453-8200.

SUPPLEMENTARY INFORMATION: Notice is hereby given that the Office of Research Integrity (ORI) has taken final action in the following case:

Yibin Lin, Ph.D., University of Texas Health Science Center: Based on the report of an assessment conducted by UTHealth, Respondent's admission, and analysis conducted by ORI in its oversight review, ORI found that Dr. Yibin Lin, former postdoctoral fellow, McGovern Medical School, UTHealth, engaged in research misconduct in research supported by PHS funds, specifically NIAID, NIH, grant R01 AI125216.

ORI found that Respondent engaged in research misconduct by knowingly and intentionally falsifying, fabricating, and plagiarizing data and text reported in the following published papers, which have been retracted, and manuscripts:

Published Papers

• Efficient Method for Genomic DNA Mutagenesis in E. coli. bioRxiv 2020. doi: https://doi.org/10.1101/2020.05.16.097097.

• A simple and efficient method for in vitro site directed mutagenesis. bioRxiv 2020. doi: https://doi.org/10.1101/2020.05.16.100107.

• A restriction-free method for gene reconstitution. bioRxiv 2020. doi: https://doi.org/10.1101/2020.05.20.107631.

• Efficient Method for Protein Crystallization. bioRxiv 2020. doi: https://doi.org/10.1101/2020.05.24.113860.

• Rice Tolerance to Drought is Complex Both Physiologically and Genetically. bioRxiv 2020. doi: https://doi.org/10.1101/2020.08.19.258293.

• ITS2 Pretrial Gene Identification Related to Seed and Flower Identification for Cyclea barbata. bioRxiv 2020. doi: https://doi.org/10.1101/2020.08.20.259804.

Manuscripts Submitted to bioRxiv in 2020 and Not Published

• Analysis of the Deduced Amino Acid Sequence of Lectin-like Protein.

• Comprehensive proteomic characterization of ovarian tumors.

• Insight into the membrane protein localization and antibiotic resistance by fluorescence microscopy.

• Invariant States of the Algebra of Observables.

• The Biochemical Analysis the Expression Levels of Pre-synaptic, Post-synaptic, Nuclear and Mitochondrial Markers.

• The Overall Difference Analysis of Antioxidant of Isoflavone from Three Kinds of Soybean Stems.

• The Overall Difference Analysis of Antioxidant of Isoflavone from Three Kinds of Tomato.

Manuscript Rejected by bioRxiv and Resubmitted to medRxiv in 2020

• Invariant States of the Algebra of Observables.

ORI finds that Respondent knowingly and intentionally falsified, fabricated, and plagiarized the whole content of six (6) papers and eight (8) manuscripts, falsely created fictitious author names and affiliations without listing himself as an author to disguise himself from being the offender, and submitted them for publication in bioRxiv and medRxiv, open access preprint repositories, by falsely assembling random paragraphs of text, tables, and figures from previous publications and manuscripts to improve his citation metrics.

Dr. Lin entered into a Voluntary Exclusion Agreement (Agreement) and agreed to the following:

(1) Because the Respondent also attempted to deceive the online publication sites bioRxiv and medRxiv by creating fictitious author names and affiliations without listing himself as an author, Respondent agreed to exclude himself voluntarily for a period of ten (10) years beginning on January 7, 2021, from any contracting or subcontracting with any agency of the United States Government and from eligibility for or involvement in nonprocurement programs of the United States Government referred to as “covered transactions” pursuant to HHS' Implementation (2 CFR part 376) of OMB Guidelines to Agencies on Governmentwide Debarment and Suspension, 2 CFR part 180 (collectively the “Debarment Regulations”); and

(2) Respondent agreed to exclude himself voluntarily from serving in any advisory capacity to PHS including, but not limited to, service on any PHS advisory committee, board, and/or peer review committee, or as a consultant for a period of ten (10) years, beginning on January 7, 2021.

Dated: January 29, 2021.
Wanda K. Jones,
Acting Director, Office of Research Integrity, Office of the Assistant Secretary for Health.

[FR Doc. 2021-02273 Filed 2-3-21; 8:45 am]

BILLING CODE 4150-31-P